DEPARTMENT OF HOMELAND SECURITY

Bureau of Citizenship and Immigration Services

Agency Information Collection Activities: Proposed Collection; Comment Request

ACTION: 60-Day Notice of Information Collection Under Review: Notice of Appeal to the Office of Administrative Appeals; Form I-290B.

The Department of Homeland Security, Bureau of Citizenship and Immigration Services (CIS), proposes to submit the following information collection request to the Office of Management and Budget (OMB) for review and clearance in accordance with the Paperwork Reduction Act of 1995.

The purpose of this notice is to allow 60 days for public review and comments. Comments are encouraged and will be accepted until April 9, 2004. This process is conducted in accordance with 5 CFR 1320.10.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: New information collection.

Title of the Form/Collection: Notice of Appeal to the Office of Administrative Appeals.

(3) Agency form number, if any, and the applicable component of the Department of Homeland Security sponsoring the collection: Form I-290B. Bureau of Citizenship and Immigration Services, Administrative Appeals Office.

(4) Affected public who will be asked or required to respond, as well as a brief abstract: Primary: Individual or households. This form is used by individuals to appeal the denial or revocation of immigrant or nonimmigrant visa petitions. The information collected on this form is necessary in order for the CIS to make a determination that the appeal or motion to reopen or reconsider meet eligibility requirements.

(5) An estimate of the total number of respondents and the amount of time estimated for an average respondent to respond: 30,000 responses at 30 minutes (.50 hours) per response.

(6) An estimate of the total public burden (in hours) associated with the collection: 15,000 annual burden hours.

If you have additional comments, suggestions, or need a copy of the proposed information collection instrument with instructions, or additional information, please contact Richard A. Sloan, 202-514-3291, Director, Regulations and Forms Services Division, Bureau of Citizenship and Immigration Services, Room 4307, 425 I Street, NW., Washington, DC 20536. Additionally, comments and/or suggestions regarding the item(s) contained in this notice, especially regarding the estimated public burden and associated response time may also be directed to Mr. Richard A. Sloan.

Dated: February 4, 2004.
Richard A. Sloan,
Department Clearance Officer, Department of Homeland Security, Bureau of Citizenship and Immigration Services.

[FR Doc. 04-2690 Filed 2-6-04; 8:45 am]

BILLING CODE 4410-10-M